DEPARTMENT OF AGRICULTURE

Foreign Agricultural Service

Trade Adjustment Assistance for Farmers

AGENCY: Foreign Agricultural Service, USDA.

ACTION: Notice.

The Administrator, Foreign Agricultural Service (FAS), approved a petition for trade adjustment assistance (TAA) that was filed on February 25, 2005, by a group of Concord grape juice producers in New York, Pennsylvania, and Ohio (Tri-State). The certification date is March 28, 2005. Beginning on this date, Concord juice grape producers who produce and market Concord juice grapes will be eligible to apply for fiscal year 2005 benefits during an application period ending June 27, 2005.

SUPPLEMENTARY INFORMATION: Upon investigation, the Administrator determined that increased imports of grape juice contributed importantly to a decline in producer prices of Concord juice grapes in the Tri-State region by 22 percent during August 2003 through July 2004, when compared with the previous 5-year average.

Eligible producers must apply to the Farm Service Agency for benefits. After submitting completed applications, producers shall receive technical assistance provided by the Extension Service at no cost and may receive an adjustment assistance payment, if certain program criteria are satisfied. Applicants must obtain the technical assistance from the Extension Service by September 26, 2005, in order to be eligible for financial payments.

Producers of raw agricultural commodities wishing to learn more about TAA and how they may apply should contact the Department of Agriculture at the addresses provided below for General Information.

FOR FURTHER INFROMATION CONTACT: Producers certified as eligible for TAA should contact Farm Service Agency service centers in New York, Pennsylvania, and Ohio. For general information about TAA, contact Jean-Louis Pajot, Coordinator, Trade Adjustment Assistance for Farmers, FAS, USDA, (202) 720-2916, e-mail: trade.adjustment@fas.usda.gov.

Dated: March 24, 2005.
A. Ellen Terpstra,
Administrator, Foreign Agricultural Service.

[FR Doc. 05-6607 Filed 4-1-05; 8:45 am]

BILLING CODE 3410-10-P